DEPARTMENT OF JUSTICE

Parole Commission

Public Announcement; Pursuant to the Government in the Sunshine Act (Public Law 94-409) [5 U.S.C. Section 552b]

Agency Holding Meeting: Department of Justice, United States Parole Commission.

Time and Date: 10 a.m., Thursday, July 26, 2007.

Place: 5550 Friendship Blvd., Fourth Floor, Chevy Chase, MD 20815.

Status: Open.

Matters Considered: At the July 26, 2007 meeting the Commission considered the following item that was placed on the agenda the day before the meeting, in addition to the items previously noticed:

Consideration of the Commission's funding request for FY 2009. The Commission voted to approve the Chairman's proposed funding request by a vote of 3-1.

Agency Contact: Thomas W. Hutchison, Chief of Staff, United States Parole Commission, (301) 492-5990.

Dated: August 9, 2007.
Rockne Chickinell,
General Counsel, U.S. Parole Commission.

[FR Doc. 07-3978 Filed 8-10-07; 10:16 am]

BILLING CODE 4410-31-M